DEPARTMENT OF THE INTERIOR

Bureau of Land Management

[LLWYP00000-L51100000-GA0000-LVEMK09CK380, WYW172684]

Notice of Availability and Notice of Hearing for the Buckskin Mine Hay Creek II Coal Lease by Application Draft Environmental Impact Statement, WY

AGENCY: Bureau of Land Management, Interior.

ACTION: Notice of availability.

SUMMARY: In accordance with the National Environmental Policy Act of 1969 (NEPA) and the Federal Land Policy and Management Act of 1976 (FLPMA), the Bureau of Land Management (BLM) has prepared a Draft Environmental Impact Statement (EIS) for the Buckskin Mine Hay Creek II Coal Lease by Application (LBA) and by this Notice is announcing a public hearing requesting comments on the Draft EIS, the Maximum Economic Recovery (MER), and the Fair Market Value (FMV) of the Federal coal resources.

DATES: To ensure comments will be considered, the BLM must receive written comments on the Hay Creek II Coal LBA Draft EIS, MER, and FMV within 60 days following the date that the Environmental Protection Agency publishes its Notice of Availability in the Federal Register. The public hearing will be held at 7 p.m. Mountain Standard Time, on April 22, 2010, at the Campbell County George Amos Memorial Building, 412 South Gillette Avenue, Gillette, Wyoming.

ADDRESSES: You may submit comments by any of the following methods:

• E-mail: Hay_Creek_II_WYMail@blm.gov. Please include “Hay Creek II Draft EIS—Teresa Johnson” in the subject line.

• Fax: 307-261-7587, Attn: Teresa Johnson.

• Mail: Wyoming High Plains District Office, Bureau of Land Management, Attn: Teresa Johnson, 2987 Prospector Drive, Casper, Wyoming 82604.

• Written comments may also be hand-delivered to the BLM Wyoming High Plains District Office in Casper.

Copies of the Draft EIS are available at the following BLM office locations: BLM Wyoming State Office, 5353 Yellowstone Road, Cheyenne, Wyoming 82009; and BLM Wyoming High Plains District Office in Casper, 2987 Prospector Lane, Casper, Wyoming 82604. The Draft EIS is available electronically at the following Web site: http://www.blm.gov/wy/st/en/info/NEPA/cfodocs/HayCreekII.html.

FOR FURTHER INFORMATION CONTACT: Teresa Johnson or Mike Karbs, BLM Wyoming High Plains District Office, 2987 Prospector Drive, Casper, Wyoming 82604. Ms. Johnson or Mr. Karbs may also be reached at (307) 261-7600 or by e-mail at casper_wymail@blm.gov.

SUPPLEMENTARY INFORMATION: The Draft EIS analyzes the potential impacts of issuing a lease for the Hay Creek II Federal maintenance tract, serial number WYW172684.

The BLM is considering issuing a coal lease as a result of a March 24, 2006, application made by Kiewit Mining Properties, Inc. to lease the Federal coal in the Hay Creek II Tract. The Hay Creek II LBA is located in Campbell County, Wyoming, northwest of the Buckskin Mine, approximately 12 miles north of Gillette, Wyoming.

Kiewit Mining Properties, Inc. applied for the tract to extend the life of the existing Buckskin Mine in accordance with 43 CFR part 3425. On two occasions, May 19, 2008, and November 28, 2008, Kiewit Mining Properties, Inc. modified the LBA. As a result of the second modification, the Hay Creek II Tract now contains 419.04 acres. The applicant estimates that the current tract includes approximately 54.1 million tons of recoverable coal underlying the following lands in Campbell County, Wyoming:

T. 52 N., R. 72 W., 6th PM, Wyoming

Section 19: Lots 5 (W ½), 6, 7, 10, 11, 12 (W ½), 13(W ½), 14, 15, 18, 19, 20 (W ½).

Containing 419.04 acres more or less.

Consistent with Federal regulations under NEPA and the Mineral Leasing Act of 1920 (MLA), as amended, the BLM must prepare an environmental analysis prior to holding a competitive Federal coal lease sale. The Powder River Regional Coal Team recommended that the BLM process the Hay Creek II LBA after it reviewed the tract at a public meeting held on April 19, 2006, in Casper, Wyoming.

Lands in the Hay Creek II Tract contain all private surface estate which overlies the Federal coal.

The Wyoming Department of Environmental Quality (WDEQ) and the Office of Surface Mining Reclamation and Enforcement (OSM) are cooperating agencies in the preparation of the Draft EIS.

The Buckskin Mine is adjacent to the LBA and is operating under an approved mining and reclamation plan from the WDEQ Land Quality Division and an approved air quality permit from the WDEQ Air Quality Division that allows Kiewit Mining Properties, Inc., to mine up to 42 million tons of coal per year.

If the tract is leased to the existing Buckskin Mine, the new lease must be incorporated into the existing mining and reclamation plan for the mine. Before the Federal coal in the tract can be mined, the Secretary of the Interior must approve the revised MLA mining plan for the Buckskin Mine. The OSM is the Federal agency that is responsible for recommending approval, approval with conditions, or disapproval of the revised MLA mining plan to the Office of the Secretary of the Interior.

The Draft EIS analyzes and discloses to the public direct, indirect, and cumulative environmental impacts associated with issuing a Federal coal lease in the decertified Powder River Federal Coal Production Region, Wyoming. A copy of the Draft EIS has been sent to affected Federal, state, and local government agencies; persons and entities identified as potentially being affected by a decision to lease the Federal coal in this tract; and persons who indicated to the BLM that they wished to receive a copy of the Draft EIS. The purpose of the public hearing is to solicit comments on the Draft EIS, on the proposed competitive sale of the Federal coal lease maintenance tract, and on the FMV and MER of the Federal coal.

The Draft EIS analyzes leasing the tract as the Proposed Action. Under the Proposed Action, a competitive sale would be held and a lease issued for Federal coal contained in the tract as applied for by Kiewit Mining Properties, Inc. As part of the coal leasing process, the BLM is evaluating adding Federal coal to the tract to avoid bypassing coal or to prompt competitive interest in unleased Federal coal in this area. An alternate tract configuration that BLM is evaluating is described and analyzed as a separate alternative in the Draft EIS. Under the BLM Preferred Alternative, a competitive sale would be held and a lease issued for Federal coal resources contained in a tract configured by the BLM from the lands included within the study area. The tract could be larger or smaller than the Proposed Action. The Draft EIS also analyzes the alternative of rejecting the application to lease Federal coal as the No Action Alternative. The Proposed Action and alternatives being considered in the Draft EIS are in conformance with the approved Resource Management Plan for Public Lands Administered by the BLM Buffalo Field Office (2001).

Requests to be included on the mailing list for this project, for copies of the Draft EIS, or to be notified of the dates of the comment period and public hearing, may be sent in writing, by facsimile, or electronically to the addresses listed in the ADDRESSES section above. For those submitting comments on the Draft EIS, please make the comments as specific as possible with reference to page numbers and sections of the document. Comments that contain only opinions or preferences will not receive a formal response; however, they will be considered and included as part of the BLM decision-making process.

Please note that public comments and information submitted to the BLM —including the commenter's name, street address, and e-mail address—will be available for public review and disclosure at the above address during regular business hours (7:45 a.m. to 4:30 p.m.), Monday through Friday, except holidays.

Before including your address, phone number, e-mail address, or other personal identifying information in your comment, you should be aware that your entire comment, including your personal identifying information, may be made publicly available at any time. While you can ask us in your comment to withhold your personal identifying information from public review, we cannot guarantee that we will be able to do so.

Ruth Welch,
Associate State Director.

[FR Doc. 2010-5257 Filed 3-10-10; 8:45 am]

BILLING CODE 4310-22-P